DEPARTMENT OF HOUSING AND URBAN DEVELOPMENT

[Docket No. FR-5596-N-02]

Section 8 Housing Choice Vouchers: Revised Implementation of the HUD-VA Supportive Housing Program Technical Correction

AGENCY: Office of the Assistant Secretary for Public and Indian Housing, HUD.

ACTION: Notice.

SUMMARY: On March 23, 2012, HUD published a notice, effective as of March 23, 2012, that established the policies and procedures for the administration of tenant-based Section 8 Housing Choice Voucher (HCV) rental assistance under the HUD-Veterans Affairs Supportive Housing (HUD-VASH) program. The March 23, 2012, notice was an update of a HUD-VASH program notice first published by HUD on May 6, 2008. It was recently brought to HUD's intention that one of the HUD regulations that requires waiver in order to allow HUD-VASH families to live on the grounds of a VA facility in units developed to house homeless veterans was not referenced in either the May 6, 2008, notice or the March 23, 2012, notice. Although HUD has waived the requirement since the issuance of the May 6, 2008, notice, the regulatory requirement was inadvertently omitted from the notice. This notice corrects that omission.

DATES: Effective date: May 6, 2008.

FOR FURTHER INFORMATION CONTACT: Michael S. Dennis, Director, Office of Housing Voucher Programs, Office of Public Housing and Vouchers Programs, Office of Public and Indian Housing, Department of Housing and Urban Development, 451 7th Street SW., Room 4216, Washington, DC 20410-8000, telephone number 202-708-0477 (this is not a toll-free number). Individuals with speech or hearing impairments may access this number through TTY by calling the toll-free Federal Relay Service at 800-877-8339.

SUPPLEMENTARY INFORMATION:

I. Background

The HUD-VASH program was authorized pursuant to Division K, Title II, of the Consolidated Appropriations Act, 2008 (Public Law 110-161, approved December 26, 2007) under the heading “Tenant-Based Rental Assistance” (FY 2008 Appropriations). The HUD-VASH program combines HCV rental assistance for homeless veterans with case management and clinical services provided by the VA through its community medical centers. The program is administered by PHAs that partner with local VA medical facilities. Since implementation of the program, ongoing VA case management, health, and other supportive services have been made available to homeless veterans at more than 300 VA Medical Center (VAMC) supportive services sites and Community-Based Outpatient Clinics (CBOCs) across the nation. The HUD-VASH program is a key component of reducing homelessness among veterans as outlined in the Administration's Federal Strategy to Prevent and End Homelessness.

Following enactment of the FY 2008 Appropriations, HUD published a notice on May 6, 2008, at 73 FR 25026, which established the policies and procedures for the administration of tenant-based Section 8 HCV rental assistance under the HUD-VASH program. The appropriations acts following the FY 2008 Appropriations Act continued to fund the HUD-VASH program.

By notice published on March 23, 2012, at 77 FR 17086, HUD updated the policies and procedures for the administration of the HUD-VASH program, republishing these policies and procedures in their entirety. In addition to updating the 2008 policies and procedures, the March 23, 2012, notice was also issued to provide new and clarifying guidance regarding several aspects of the program such as those pertaining to certain types of verification documentation, addition of family members after the veteran is a participant in the HCV program, termination of assistance, portability moves within the same catchment area where both PHAs have received HUD-VASH vouchers, portability moves when case management is no longer required, reallocation of HUD-VASH vouchers, and Housing Quality Standards (HQS) initial inspections.

It was recently brought to HUD's attention that one of the HUD regulations that requires waiver in order to allow HUD-VASH families to live on the grounds of a VA facility in units developed to house homeless veterans was not referenced in either the May 6, 2008, notice or the March 23, 2012, notice. Section II.e. of the May 6, 2008, notice, and Section II.f. of the March 23, 2012, notice, which each address ineligible housing, reference waiver of HUDs regulation at 24 CFR 982.352(a)(5) (which covers section 8 housing choice voucher tenant-based assistance) but inadvertently omitted reference to a corresponding provision covering section 8 project-based voucher assistance, specifically, 24 CFR 983.53(a)(2). The latter provision also must be waived to fulfill HUD's intent of allowing VASH families (whether receiving tenant-based or project-based assistance) to live on the grounds of a VA facility. Although § 983.53(a)(2) was inadvertently omitted in each of these notices, the waiver of § 983.53(a)(2) has been applied by HUD as if the regulatory section had been included in the initial May 6, 2008, notice.

This notice published today corrects the paragraph on ineligible housing in the March 23, 2012, notice to include reference to 24 CFR 983.53(a)(2). Since the March 23, 2012, notice was an update of the May 6, 2008, notice there is no need to make the technical correction to the May 6, 2008, notice.

II. Technical Correction

HUD's notice published on March 23, 2012, at 77 FR 17086, specifically subsection II.f. entitled “Ineligible Housing,” and found at 77 FR 17089 (middle column) is corrected to read as follows:

f. Ineligible Housing

HUD-VASH families will be permitted to live on the grounds of a VA facility in units developed to house homeless veterans. Therefore, 24 CFR 982.352(a)(5) and 983.53(a)(2), which prohibit units on the physical grounds of a medical, mental, or similar public or private institution, are waived for that purpose only.

Date: June 12, 2014.
Sandra B. Henriquez,
Assistant Secretary for Public and Indian Housing.

[FR Doc. 2014-14167 Filed 6-17-14; 8:45 am]

BILLING CODE 4210-67-P